DEPARTMENT OF COMMERCE

Foreign-Trade Zones Board

[Docket 12-2006]

Foreign-Trade Zone 148—Knoxville, TN, Area Application for Reorganization/Expansion

An application has been submitted to the Foreign-Trade Zones (FTZ) Board (the Board) by the Industrial Development Board of Blount County, grantee of Foreign-Trade Zone 148, requesting authority to reorganize and expand FTZ 148 in the Knoxville, Tennessee, area, adjacent to the Knoxville Customs port of entry. The application was submitted pursuant to the provisions of the Foreign-Trade Zones Act, as amended (19 U.S.C. 81a-81u), and the regulations of the Board (15 CFR part 400). It was formally filed on April 6, 2006.

FTZ 148 was approved on June 28, 1988 (Board Order 384, 53 FR 26095, 7/11/88), and expanded on August 21, 2003 (Board Order 1294, 68 FR 52385, 9/3/03). The zone project currently consists of the following sites: Site 1 (46 acres)—within the Bill Mullins Warehouse Park, Prosser Road, Knoxville (Knox County); Site 2 (5 acres)—Blount County Industrial Park, State Route 321 (one mile west of State Route 129), Maryville; Site 2A (27,000 sq. ft.)—McGhee Tyson Airport, State Route 129, Alcoa (Blount County); Site 3 (7 acres)—Valley Industrial Park, State Route 62 and Union Valley Road, Oak Ridge (Anderson County); and, Site 4 (54 acres)—within the CoLinx warehousing facilities, 1536 Genesis Road, Crossville (Cumberland County).

The application is requesting authority to reorganize and expand the general-purpose zone project as follows: Sites 1, 2 and 3 would be deleted; Site 2A would become Site 1; and, Site 4 would become Site 2. Three new sites would be added: Proposed Site 3 (190 acres)—Partnership Park South located on Partnership Way in Maryville (Blount County); Proposed Site 4 (13 acres)—within the 15-acre Heritage Center, East Technology Park, 2010 Highway 58, Oak Ridge (Roane County); and, Proposed Site 5 (71 acres, 2 parcels)—within Eagle Bend Industrial Park located on J.D. Yarnell Industrial Parkway in Clinton (Anderson County). No specific manufacturing authority is being requested at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street, NW., Washington, DC 20005; or,

2. Submissions via the U.S. Postal Service: Foreign-Trade Zones Board, U.S. Department of Commerce, FCB—Suite 4100W, 1401 Constitution Avenue, NW., Washington, DC 20230.

The closing period for their receipt is June 19, 2006. Rebuttal comments in response to material submitted during the foregoing period may be submitted during the subsequent 15-day period (to July 3, 2006.)

A copy of the application and accompanying exhibits will be available during this time for public inspection at the Office of the Foreign-Trade Zones Board's Executive Secretary at the first address listed above, and at the U.S. Department of Commerce, Export Assistance Center, 17 Market Square, #201, Knoxville, TN 37902-1405.

Dated: April 7, 2006.
Dennis Puccinelli,
Executive Secretary.

[FR Doc. E6-5778 Filed 4-17-06; 8:45 am]

BILLING CODE 3510-DS-P